DEPARTMENT OF TRANSPORTATION

Federal Motor Carrier Safety Administration

[Docket No. FMCSA-2019-0260]

Parts and Accessories Necessary for Safe Operation; Exemption Renewal for National Tank Truck Carriers, Inc.

AGENCY: Federal Motor Carrier Safety Administration (FMCSA), Department of Transportation (DOT).

ACTION: Notice of final disposition; renewal of exemption.

SUMMARY: FMCSA announces its final decision to renew an exemption requested by National Tank Truck Carriers, Inc. (NTTC) to allow motor carriers operating tank trailers to install or continue to use a red or amber brake-activated pulsating lamp positioned in the upper center position or in an upper dual outboard position on the rear of the trailers, in addition to the steady-burning brake lamps required by the Federal Motor Carrier Safety Regulations (FMCSRs). The exemption is renewed for 5 years, unless revoked earlier.

DATES: This renewed exemption is effective from October 8, 2025, and expires on October 8, 2030.

FOR FURTHER INFORMATION CONTACT: Mr. David Sutula, Chief, FMCSA Vehicle and Roadside Operations Division, Office of Carrier, Driver, and Vehicle Safety Standards; (202) 961-1373; MCPSV@dot.gov. If you have questions on viewing or submitting material to the docket, call Dockets Operations at (202) 366-9826.

SUPPLEMENTARY INFORMATION:

I. Public Participation

Viewing Comments and Documents

To view any documents mentioned as being available in the docket, go to https://www.regulations.gov/docket/FMCSA-2019-0260/document and choose the document to review. To view comments, click this notice, then click “Browse Comments.” If you do not have access to the internet, you may view the docket online by visiting Dockets Operations on the ground floor of the DOT West Building, 1200 New Jersey Avenue SE, Washington, DC 20590-0001, between 9 a.m. and 5 p.m. ET, Monday through Friday, except Federal holidays. To be sure someone is there to help you, please call (202) 366-9317 or (202) 366-9826 before visiting Dockets Operations.

II. Legal Basis

FMCSA has authority under 49 U.S.C. 31136(e) and 31315(b) to grant exemptions from the Federal Motor Carrier Safety Regulations (FMCSRs). FMCSA must publish a notice of each exemption request in the Federal Register (49 CFR 381.315(a)). The Agency must provide the public an opportunity to inspect the information relevant to the application, including the applicant's safety analyses. The Agency must also provide an opportunity for public comment on the request.

The Agency reviews safety analyses and public comments submitted and determines whether granting the exemption would likely achieve a level of safety equivalent to, or greater than, the level that would be achieved absent such exemption, pursuant to the standard set forth in 49 U.S.C. 31315(b)(1). The Agency must publish the decision in the Federal Register (49 CFR 381.315(b)). If granted, the notice will identify the regulatory provision from which the applicant will be exempt and the effective period and will explain all terms and conditions of the exemption (49 CFR 381.315(c)(1)). If the exemption is denied, the notice will explain the reason for the denial (49 CFR 381.315(c)(2)). The exemption may be renewed (49 CFR 381.300(b)).

III. Background

Current Regulatory Requirements

Section 393.25(e) of the FMCSRs requires all exterior lamps (both required lamps and any additional lamps) to be steady burning except turn signal lamps, hazard warning signal lamps, school bus warning lamps, amber warning lamps or flashing warning lamps on tow trucks and CMVs transporting oversized loads, and warning lamps on emergency and service vehicles authorized by State or local authorities.

IV. Application for Renewal of Exemption

The renewal application from NTTC was described in detail in a Federal Register notice on August 25, 2025, (90 FR 41473) and will not be repeated here as the facts have not changed since that time.

V. Public Comments

The Agency received fifteen comments to the public docket, thirteen in support of the exemption, one opposing it, and one that misunderstood the application and was non-responsive.

Several motor carriers and organizations expressed strong support, citing both research findings and real-world data demonstrating safety benefits. Gemini Motor Transport, Oakley Transport, Island Transportation, and ADM Trucking (ADM) reported reductions in rear-end collisions and improved visibility after equipping their fleets with pulsating brake lamps. ADM specifically noted that positive results from early adoption across 100 units led to fleetwide installation being considered. Industry associations such as the American Trucking Associations (ATA), Growth Energy, and Clean Fuels Alliance America also supported the renewal, emphasizing the broader safety benefits of improved rear signaling.

Wabash National Corporation (Wabash) supported the renewal and referenced its separate petition to update Federal Motor Vehicle Safety Standard (FMVSS) 108 to account for advancements in strobe light technology. The ATA encouraged FMCSA to collaborate with its Technology & Maintenance Council to develop recommended practices on lamp color, placement, and flash frequency. Truck Trailer Manufacturers Association and Wabash also urged FMCSA and the National Highway Traffic Safety Administration (NHTSA) to ensure interagency alignment. An independent driver supported the renewal, stating that California has permitted flashing brake lamps since the early 1980s.

One commenter opposed renewal of the exemption, arguing the extension should not be granted because it relied on unreliable or inaccurate data.

Other commenters, while generally supportive, urged conditions. Citizens United for Transportation Services emphasized that red pulsating lamps should be preferred over amber, which would create consistency with the color codes of the Federal Highway Administration's Manual on Uniform Traffic Control Devices (MUTCD) and State practices in California, Utah, and Tennessee. Most supportive organizations, including Wabash, Clean Fuels, Growth Energy, ADM, and AWM Associated, LLC, stated that FMCSA should revise the underlying regulation to allow broader use of pulsating brake lamps rather than continue case-by-case exemptions.

Overall, most commenters expressed strong support for the exemption renewal, citing significant safety improvements in crash avoidance and severity reduction, while a minority raised concerns over data reliability, lamp color, or the need for regulatory consistency.

VI. Agency Decision

FMCSA has evaluated NTTC's renewal application, the supporting data provided, and the public comments received. The Agency is not aware of any evidence indicating that the operation of brake-activated pulsating lamps on tank trailers under the conditions of the original exemption has resulted in a degradation of safety. On the contrary, available data from Groendyke Transport, Inc, and Trimac Transportation Services, Inc. demonstrate measurable reductions in the frequency and severity of rear-end crashes following installation of pulsating brake lamps. In addition, the stated concerns over data reliability, lamp color, and regulatory consistency were not supported by specific data or information that countered the real-world data provided, which showed safety improvements.

Accordingly, FMCSA believes that the FMCSA and NHTSA research programs examining the ability of alternative rear-signaling systems to reduce the frequency and severity of rear-end crashes provide a sufficient basis for FMCSA to conclude that implementation of amber brake-activated auxiliary pulsating warning lamps on the rear of trailers and van body trucks, in addition to the steady-burning brake lamps required by the regulations, is likely to achieve a level of safety that is equivalent to, or greater than, the level of safety achieved without the exemption. Therefore, for the reasons discussed above and in the prior notice granting the original exemption request, FMCSA concludes that renewing the exemption on the terms and conditions set forth in this exemption renewal decision, will likely achieve a level of safety that is equivalent to, or greater than, the level of safety achieved without the exemption.

VII. Terms and Conditions

FMCSA renews the exemption for five (5) years. The exemption from the requirements of 49 CFR 393.25(e) is effective October 8, 2025, through October 8, 2030, 11:59 p.m. ET. During the temporary exemption period, motor carriers operating tank trailers will be allowed to install or continue to use a red or amber brake-activated pulsating lamp in the upper center position or in an upper dual outboard position on the rear of the trailers, in addition to the steady-burning brake lamps required by the FMCSRs.

VIII. Preemption

In accordance with 49 U.S.C. 31315(d), as implemented by 49 CFR 381.600, during the period this exemption is in effect, no State shall enforce any law or regulation that conflicts with or is inconsistent with this exemption with respect to a person operating under the exemption. States may, but are not required to, adopt the same exemption with respect to operations in intrastate commerce.

IX. Termination

The exemption will be rescinded if: (1) Motor carriers operating tank trailers fail to comply with the terms and conditions of the exemption; (2) the exemption has resulted in a lower level of safety than was maintained before it was granted; or (3) continuation of the exemption would not be consistent with the goals and objectives of 49 U.S.C. 31136(e) and 31315(b).

Interested parties possessing information that would demonstrate that motor carriers operating tank trailers equipped with a red or amber brake-activated pulsating lamp on the rear of the tank trailer in addition to the steady-burning brake lamps required by the FMCSRs are not achieving the requisite statutory level of safety should immediately notify FMCSA by email at MCPSV@DOT.GOV. The Agency will evaluate any such information and, if safety is being compromised or if the continuation of the exemption is not consistent with the goals and objectives of 49 U.S.C. 31136 or chapter 313, will take immediate steps to revoke the exemption.

Derek Barrs,
Administrator.

[FR Doc. 2025-19938 Filed 11-14-25; 8:45 am]

BILLING CODE 4910-EX-P